ENVIRONMENTAL PROTECTION AGENCY

[EPA-HQ-ORD-2015-0765; FRL-9120-01-ORD]

Request for Nominations of Experts to the EPA Office of Research and Development's Board of Scientific Counselors

AGENCY: Environmental Protection Agency (EPA).

ACTION: Notice.

SUMMARY: The U.S. Environmental Protection Agency (EPA) is seeking nominations for technical experts to serve on its Board of Scientific Counselors (BOSC), a federal advisory committee to the Office of Research and Development (ORD). Submission of nominations will be made via the BOSC website at: https://www.epa.gov/bosc.

DATES: Nominations should be submitted by November 12, 2021, per instructions below.

FOR FURTHER INFORMATION CONTACT: Any member of the public needing additional information regarding this Notice and Request for Nominations may contact Mr. Tom Tracy, Office of Science Policy, Office of Research and Development, Mail Code B343-01, 109 T.W. Alexander Drive, Research Triangle Park, NC 27711; via phone/voice mail at: (919) 541-4334; or via email at: tracy.tom@epa.gov. General information concerning the BOSC can be found at the following website: https://www.epa.gov/bosc.

SUPPLEMENTARY INFORMATION:

Background

The BOSC is a chartered Federal Advisory Committee established by the EPA to provide independent scientific and technical peer review, advice, consultation, and recommendations about ORD. As a Federal Advisory Committee, the BOSC conducts business in accordance with the Federal Advisory Committee Act (FACA) (5 U.S.C. App. 2) and related regulations.

The BOSC is comprised of an Executive Committee and one or more supporting subcommittee(s). Potential subcommittee focuses are: Social and Community Science, and Climate Change. Please visit https://www.epa.gov/aboutepa/about-office-research-and-development-ord to learn more about ORD's research programs.

Members of the BOSC constitute a distinguished body of non-EPA scientists, engineers, and economists who are experts in their respective fields. EPA will consider nominees from industry, business, public and private research institutes or organizations, academia, government (federal, state, local, and tribal) and non-government organizations, and other relevant interest areas. Members are appointed by the EPA Administrator to serve as Special Government Employees and provide independent expert advice to the agency for a term of up to six years. EPA values and welcomes diversity. All qualified candidates are encouraged to apply regardless of gender, race, disability, or ethnicity.

Expertise Sought

The chartered BOSC provides scientific advice to the EPA Administrator on a variety of EPA science and research topics. All the work of BOSC standing committees and ad-hoc panels is conducted under the auspices of the chartered BOSC. The chartered BOSC members review all BOSC standing committee and ad-hoc panel draft reports and determine whether each meets the BOSC's criteria and high-quality standards required to deliver them to the EPA Administrator. The BOSC Staff Office invites nominations of individuals to serve on the chartered BOSC with expertise or extensive experience in the following scientific disciplines and topic areas as they relate to human health and the environment:

Agronomy, Soil Science

Air Quality

Atmospheric Sciences

Biology and Microbiology

Chemistry (including Environmental Chemistry)

Climate Science and Change

Community and Citizen Science

Community Engagement

Contaminated Site Remediation

Ecology

Ecosystem Services

Emergency Management

Energy and the Environment

Environmental Economics

Environmental Engineering

Environmental Justice

Environmental Life Cycle Assessment

Environmental Modeling

Epidemiology

Exposure Science and Assessment

Forestry and Natural Resource Management

Information and Data Science

Materials/Waste Management Disaster Science

New Approach Methods

Novel Analytical Methods

Physiologically based Pharmacokinetic (PBPK) Modeling

Public Health

Research Program Evaluation

Risk Assessment (including Human Health, Ecological, Environmental)

Science Policy/Public Policy

Social, Behavioral and Decision Sciences

Sustainability

Systems Science

Toxicology

Water Quality (including Drinking Water, Surface Water, Groundwater)

Water Quantity and Reuse

Watershed Management

Selection Criteria

The BOSC is a balanced and diverse expert committee. The committee and each of its subcommittees strives to possess necessary domains of expertise, depth and breadth of knowledge, and diverse and balanced scientific perspectives. Nominations will be evaluated on the basis of several criteria including: (a) Demonstrated scientific and/or technical credentials and disciplinary expertise, knowledge, and experience in relevant fields; (b) availability to serve and willingness to commit time to the committee (approximately one to three meetings per year both by teleconferences and possibly face-to-face meetings); (c) absence of financial conflicts of interest; (d) absence of an appearance of a lack of impartiality; (e) demonstrated ability to work constructively and effectively on committees; and (f) background and experiences that would contribute to the diversity of viewpoints on the Executive Committee or Subcommittee, e.g., workforce sector, geographical location, social, cultural, and educational backgrounds, and professional affiliations.

Process and Deadline for Submitting Nominations

Any interested person or organization may nominate qualified persons to be considered for appointment to the advisory committee. Nominations should be submitted via the BOSC website at: https://www.epa.gov/bosc. Nominations should be submitted no later than November 12, 2021. To receive full consideration, nominations should include all the information requested. EPA's nomination form requests: Contact information about the person making the nomination; contact information about the nominee; the disciplinary and specific areas of expertise of the nominee; committee preference; the nominee's curriculum vita and/or resume; and additional information that would be useful for considering the nomination such as background and qualifications (e.g., current position, educational background, expertise, research areas), experience relevant to one or more of ORD's research programs, service on other advisory committees and professional societies, and availability to participate as a member of the Executive Committee and/or Subcommittee. Persons having questions about the nomination procedures, or who are unable to submit nominations through the BOSC website, should contact Mr. Tom Tracy, as indicated above under FOR FURTHER INFORMATION CONTACT section of this notice.

Mary Ross,
Director, Office of Science Advisor, Policy and Engagement.

[FR Doc. 2021-22581 Filed 10-15-21; 8:45 am]

BILLING CODE 6560-50-P